DEPARTMENT OF ENERGY

Federal Energy Regulatory Commission

[ Project No. 2464-015]

Gresham Municipal Utilities; Notice of Application Tendered for Filing With the Commission and Soliciting Additional Study Requests

Take notice that the following hydroelectric application has been filed with the Commission and is available for public inspection.

a. Type of Application: Subsequent License.

b. Project No.: 2464-015.

c. Date filed: June 10, 2013.

d. Applicant: Gresham Municipal Utilities.

e. Name of Project: Weed Dam Hydroelectric Project.

f. Location: On Red River in Shawano County, Wisconsin. No federal lands are occupied by the project works or located within the project boundary.

g. Filed Pursuant to: Federal Power Act 16 U.S.C. 791(a)-825(r).

h. Applicant Contact: Gresham Municipal Utilities, Village of Gresham, Wisconsin, Attn: Art Bahr, Village Administrator, 1126 Main Street, PO Box 50, Gresham, WI 54128.

i. FERC Contact: Lesley Kordella, (202) 502-6406 or lesley.kordella@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 9, 2013.

All documents may be filed electronically via the Internet. See 18 CFR § 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

m. The application is not ready for environmental analysis at this time.

n. The Weed Dam Hydroelectric Project would consist of the following existing features: (1) A gated 64-foot-long concrete spillway with four bays, each containing a five-foot-high tainter gate; (2) two 700-foot-long earth embankments on either side of the spillway; (3) a 244-acre reservoir with a storage capacity of 1,200 acre-feet; (4) two buried steel penstocks; and (5) a concrete powerhouse with one 500-kW turbine-generator unit and one 120-kW turbine-generator united having a total installed capacity of 620 kW; (6) a 100-foot-long transmission line; (7) a substation; and (8) appurtenant facilities. The project is estimated to generate about 1.49 gigawatt hours annually. No new facilities or environmental measures are proposed.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule: The application will be processed according to the following preliminary Hydro Licensing Schedule. Revisions to the schedule will be made as appropriate (e.g., if scoping is waived, the schedule would be shortened).

Issue Deficiency and/or Additional Information Request, August 2013

Issue Notice of Acceptance, October 2013

Issue Scoping Document, February 2014

Issue Notice of Ready for Environmental Analysis, February 2014

Commission issues EA, June 2014

Dated: June 19, 2013.
Kimberly D. Bose,
Secretary.

[FR Doc. 2013-15182 Filed 6-25-13; 8:45 am]

BILLING CODE 6717-01-P